DEPARTMENT OF COMMERCE

National Oceanic and Atmospheric Administration

DEPARTMENT OF THE INTERIOR

Fish and Wildlife Service

[I.D. 051602C]

Notice of Public Scoping and Preparation of an Environmental Impact Statement and Environmental Impact Report for Mendocino Redwood Company’s Habitat Conservation Plan and Natural Community Conservation Plan

AGENCIES: National Marine Fisheries Service (NMFS), National Oceanic and Atmospheric Administration (NOAA), Commerce; Fish and Wildlife Service, Interior.

ACTION: Notice of Intent.

SUMMARY: The National Marine Fisheries Service (NMFS), Fish and Wildlife Service (FWS), and California Department of Fish and Game (CDFG) intend to gather information necessary for the preparation of an Environmental Impact Statement (EIS) and Environmental Impact Report (EIR). The EIS/EIR will consider an application from the Mendocino Redwood Company (MRC) for an incidental take permit for take of endangered and threatened species in accordance with the Endangered Species Act of 1973, as amended (ESA), and an incidental take authorization in accordance with the Natural Community Conservation Planning Act (NCCPA), (California Fish and Game Code). MRC's application will include a Habitat Conservation Plan (HCP), as required under the ESA, and Natural Community Conservation Plan (NCCP) as required under the NCCPA. The joint HCP/NCCP will address forest management and timber operations on MRC lands in Mendocino and Sonoma Counties, California. The proposed 80-year HCP/NCCP will encompass 220,000 to 240,000 acres of lands owned by MRC on and after the granting date of the incidental take permits, and may cover up to 19 fish and wildlife species and up to 59 plant species.

We will prepare the EIS/EIR pursuant to the National Environmental Policy Act and the California Environmental Quality Act. The EIS/EIR will analyze MRC's proposed action and alternatives to the proposed action. We expect MRC to present the HCP/NCCP as the proposed action. To satisfy both National Environmental Policy Act and California Environmental Quality Act requirements, NMFS, FWS, and CDFG are conducting a joint scoping process for the preparation of the EIS/EIR. This notice describes the proposed action and possible alternatives, notifies the public of scoping meetings, invites public participation in the scoping process for preparing the joint EIS/EIR, solicits written comments, and identifies the NMFS and FWS officials to whom questions and comments concerning the proposed action and the joint EIS/EIR may be directed.

DATES: Written comments from all interested parties must be received on or before July 8, 2002. Public scoping meetings where oral and written comments can be submitted, are scheduled for June 25, 2002, from 7 p.m. to 9 p.m. in Santa Rosa, CA, June 26, 2002; from 7 p.m. to 9 p.m. in Ukiah, CA; and for June 27, 2002, from 7 p.m. to 9 p.m. in Fort Bragg, CA.

ADDRESSES: Comments regarding the scope of the EIS/EIR and requests for additional information should be addressed to Eric Shott, NMFS, 777 Sonoma Ave, Room 325, Santa Rosa, CA 95404 or John Hunter, FWS, 1655 Heindon Road, Arcata, CA 95521. Written comments may also be sent by facsimile to (707) 822-8411. However, comments will not be accepted if submitted via e-mail or the internet. Public scoping meetings will be held at the State of California Justice Joseph A. Rattigan Building, 50 D Street, Santa Rosa, CA, 95404, Ukiah Valley Conference Center, 200 South School Road Street, Ukiah, CA, 95482 and the Fort Bragg Town Hall, 363 North Main Street, Fort Bragg, CA, 95437. Comments received will be available for public inspection, by appointment, during normal business hours (Monday through Friday; 8 a.m. to 5 p.m.) at the above address. All comments received, including names and addresses, will become part of the official administrative record and may be available to the public.

FOR FURTHER INFORMATION CONTACT: Eric Shott, NMFS, at (707) 575-6089 or John Hunter, FWS, at (707) 822-7201.

SUPPLEMENTARY INFORMATION:

Background

Section 9 of the ESA prohibits the “take” of wildlife species listed as endangered or threatened by either the FWS or NMFS (16 USC 1538). The ESA defines the term “take” as: harass, harm, pursue, hunt, shoot, wound, kill, trap, capture, or collect listed species, or attempt to engage in such conduct. Pursuant to section 10(a)(1)(B) of the ESA, FWS and NMFS may issue an “incidental take permit” to take listed species if such taking is incidental to, and not the purpose of, otherwise lawful activities.

The take prohibitions of the ESA generally do not apply to listed plants on private land unless their destruction on private land is in violation of State law or regulation. To the extent that particular plants are protected by state law, we expect that MRC will request permits for, and will consider, plants in their HCP/NCCP. Another reason for the company to consider plants is that the FWS cannot issue a permit for wildlife species that would jeopardize listed plant species.

To receive an incidental take permit under the ESA, an applicant must prepare an HCP that specifies the following: (1) The impact of the taking, (2) steps the applicant will take to minimize and mitigate the impact; (3) funding available to implement the steps; (4) what alternative actions to the taking the applicant considered and the reasons why they were not taken; and (5) any other measures NMFS or FWS may require as being necessary or appropriate for the purpose of the plan (16 USC 1539). To issue a permit, NMFS and FWS must find that: (1) the taking will be incidental, (2) the applicant will minimize and mitigate impacts of the take to the maximum extent possible; (3) the applicant will ensure adequate funding for the HCP; (4) the taking will not appreciably reduce the likelihood of the survival and recovery of the species; and the applicant met other measures required by FWS and NMFS. Regulations governing issuance of FWS permits for endangered and threatened species are at 50 CFR 17.22 and 17.32, and at 50 CFR 222.301 through 307 for NMFS-issued permits.

The California Endangered Species Act prohibits the "take" of wildlife species listed as endangered or threatened by the California Fish and Game Commission (California Fish and Game Code, section 2080). The California Endangered Species Act defines the term "take" as: hunt, pursue, catch, capture or kill, or attempt to engage in such conduct (California Fish and Game Code, section 86). Pursuant to section 2835 of the NCCPA (California Fish and Game Code section 2835), CDFG may issue a permit that authorizes the take of any California Endangered Species Act listed species or other species whose conservation and management is provided for in a CDFG approved NCCP. MRC is expected to pursue an incidental take authorization in accordance with section 2835 of the NCCPA.

MRC is developing a HCP/NCCP in anticipation of applying for an incidental take permit under the ESA and the NCCPA. The HCP/NCCP will apply to 220,000 to 240,000 acres of commercial timberland owned by MRC in Mendocino and Sonoma counties, California. This property occurs in 87 planning watersheds with habitat important to the conservation of threatened and endangered species in the central California coast and northern California region. The HCP/NCCP area includes, but is not limited to, MRC lands in the following watersheds; Hollow Tree Creek, Cottoneva Creek, Rockport coastal streams (Hardy, Juan, and Howard), Noyo River, Albion River, Big River, Navarro River, Upper Russian, Greenwood Creek, Garcia River, Alder Creek/Schooner Creek/Mallo Pass, Elk Creek, Doyle Creek, Buckhorn Creek, Gualala River, and Willow/Freezeout Creeks.

Based on the HCP, MRC intends to request an incidental take permit from FWS for the marbled murrelet (Brachyramphus marmoratus), northern spotted owl (Strix occidentalis caurina), Point Arena mountain beaver (Aplodontia rufa nigra), California freshwater shrimp (Syncaris pacifica), California red-legged frog (Rana aurora draytonii), Sonoma alopecurus (Alopectris aequalis var. sonomensis), Humboldt milkvetch (Astragalus agnicidus), white sedge (Carex albida), Pennell's bird-beak (Cordylanthus tenuis ssp. capillaris), Baker's larkspur (Delphinium bakeri), Kellogg's buckwheat (Eriogonum kelogii), Roderick's Fritillary (Fritillaria roderickii), Burke's goldfields (Lasthenia burkei), and showy Indian clover (Trifolium amoenum). MRC intends to request an incidental take permit from NMFS for the California Coastal chinook salmon Evolutionarily Significant Unit (ESU) (Oncorhynchus tshawytscha), Central California Coast and Southern Oregon/Northern California Coasts coho salmon ESUs (Oncorhynchus kisutch), and Central California Coast and Northern California steelhead ESUs (Oncorhynchus mykiss). MRC intends to request an incidental take permit from CDFG for all of these species listed above.

MRC may also seek coverage in the incidental take permits for unlisted species including 51 species of plants, four species of amphibians, three species of birds, and two species of mammals. Should unlisted covered species become listed under the ESA during the term of the permit, take authorization for those species will become effective upon listing.

Activities that MRC may propose for incidental take permit coverage include mechanized timber harvest; forest product transportation; road and landing construction, use, maintenance and abandonment; site preparation; tree planting; certain types of vegetation management; fertilizer application; silvicultural thinning and other silvicultural activities; fire suppression; rock quarries and borrow pit operations; gravel extraction; aquatic habitat restoration and other forest management activities, miscellaneous and minor forest product collecting; recreation; cell- and repeater-site development and maintenance; and grazing leases. The HCP/NCCP is also expected to cover certain monitoring activities and scientific work in the HCP/NCCP area.

FWS and NMFS expect MRC's proposed action to include an 80-year HCP/NCCP to provide for management of California properties in Mendocino and Sonoma Counties. The HCP/NCCP is expected to address each of the areas enumerated above, as required by the ESA and the NCCPA. The goal of the HCP/NCCP will be to: (1) protect and improve habitats required by species covered by the HCP/NCCP, (2) establish appropriate guidelines for continuing timber harvests and other forest management activities, and (3) improve the native biodiversity present on MRC lands so it more closely resembles its historical richness and abundance. The conservation strategy is expected to include enhanced wildlife habitat and stream buffers, a sediment reduction program, a monitoring program, adaptive management, and wildlife and aquatic habitat restoration measures.

FWS, NMFS and CDFG will consider a range of alternatives to the proposed HCP/NCCP, including a No Action alternative, and other project alternatives recommended during this scoping process. We expect the alternatives to include HCP/NCCPs with modified lists of covered species, land coverage areas, and permit terms. Different strategies for minimizing and mitigating the impacts of incidental take may also be considered. We invite comments and suggestions from all interested parties to ensure that a reasonable range of alternatives and issues related to them are addressed and that all significant issues are identified.

Environmental review of the HCP/NCCP will be conducted in accordance with the requirements of the National Environmental Policy Act, as amended (42 U.S.C. 4321 et seq.), the Council on Environmental Quality Regulations for Implementing the Procedural Provisions of the National Environmental Policy Act regulations (40 CFR parts 1500-1508), and FWS and NMFS procedures for compliance with those regulations. This notice is being furnished in accordance with 40 CFR Section 1501.7 and 1508.22 to obtain suggestions and information from other agencies and the public on the scope of issues to be addressed in the joint EIS/EIR.

You are invited to submit comments and to participate in the scoping process. We request comments be received no later than 30 days after the date of this notice.

The primary purpose of the scoping process is to identify the significant issues related to issuance of incidental take permits for activities covered in the HCP/NCCP. Interested persons are encouraged to attend the public scoping meeting to identify and discuss issues and alternatives that should be addressed in the joint EIS/EIR. The proposed agenda for this facilitated meeting includes a summary of the range of activities that may be authorized in the incidental take permits; status of and threats to subject species; and tentative issues, concerns, opportunities, and alternatives. Additional public meetings will be conducted on later dates to provide more opportunities to comment on the draft EIS/EIR.

Dated: May 31, 2002.
D. Kenneth McDermott
Deputy Manager, California/Nevada Operations Office, Fish and Wildlife Service, Sacramento, California

May 31, 2002.
Phil Williams,
Chief, Endangered Species Division, Office of Protected Resources, National marine Fisheries Service.

[FR Doc. 02-14234 Filed 6-5-02; 8:45 am]

BILLING CODES 3510-22-S, 4310-55-S